DEPARTMENT OF AGRICULTURE

Agricultural Marketing Service

[Doc. No. AMS-FTPP-23-0008]

Proposed Posting and Posting of Stockyards

AGENCY: Agricultural Marketing Service, USDA.

ACTION: Notice and request for comments.

SUMMARY: The Agricultural Marketing Service (AMS) is taking action to post stockyards under the Packers and Stockyards Act (P&S Act). Specifically, we are proposing that 15 stockyards now operating subject to the P&S Act be posted. Also, we are posting 10 stockyards that were identified previously as operating subject to the P&S Act. We determined that the stockyards meet the definition of a stockyard under the P&S Act and, therefore, they have been posted.

DATES: For the proposed posting of stockyards, comments received on or before December 18, 2023 will be considered.

ADDRESSES: Interested persons are invited to submit comments concerning this notice. Comments may be submitted by any of the following methods:

• Internet: Go to https://www.regulations.gov. Follow the on-line instructions for submitting comments.

• Fax: (202) 690-3207.

• Mail, hand delivery, or courier: Dora Malykin, USDA, AMS, 1400 Independence Avenue SW, Room 2097-S, Washington, DC 20250-3601.

Instructions: All comments should reference the document number and the date and page number of this issue of the Federal Register. All comments submitted in response to this notice will be included in the record and will be made available for public inspection. Please be advised that the identity of the individuals or entities submitting comments will be made public on the internet at the address provided above.

FOR FURTHER INFORMATION CONTACT: Donna A. Ash, Marketing Specialist, AMS, Packers, and Stockyards Division; Telephone: (202) 720-0222 or Email: Donna.a.ash@usda.gov.

SUPPLEMENTARY INFORMATION: AMS administers and enforces the P&S Act of 1921 (7 U.S.C. 181 et seq.). The P&S Act prohibits unfair, deceptive, and fraudulent practices by livestock market agencies, dealers, stockyard owners, meat packers, swine contractors, and live poultry dealers in the livestock, poultry, and meatpacking industries.

Section 302(a) of the P&S Act (7 U.S.C. 202(a)) defines the term “stockyard” as “any place, establishment, or facility commonly known as stockyards, conducted, operated, or managed for profit or nonprofit as a public market for livestock producers, feeders, market agencies, and buyers, consisting of pens, or other enclosures, and their appurtenances, in which live cattle, sheep, swine, horses, mules, or goats are received, held, or kept for sale or shipment in commerce.”

Section 302(b) of the P&S Act (7 U.S.C. 202(b)) requires the Secretary of Agriculture to determine which stockyards meet this definition, and to notify the owner of the stockyard and the public of that determination by posting a notice in each designated stockyard. Once the Secretary provides notice to the stockyard owner and the public, the stockyard is subject to the provisions of Title III of the P&S Act (7 U.S.C. 201-203 and 205-217a) until the Secretary de-posts the stockyard by public notice. To post a stockyard, we assign the stockyard a facility number, notify the stockyard owner, and send an official posting notice to the stockyard owner to display in a public area of the stockyard. This process is referred to as “posting.” The date of posting is the date that the posting notices are physically displayed at the stockyard. A facility that does not meet the definition of a stockyard is not subject to the P&S Act and therefore cannot be posted. A posted stockyard can be “de-posted,” which occurs when the facility is no longer used as a stockyard.

We are hereby notifying stockyard owners and the public that the following 15 stockyards meet the P&S Act's definition of a stockyard and that we propose to designate these stockyards as posted stockyards.

Proposed facility No. | Stockyard name and location
AL-198 | Rocking L Horse Sales LLC, Mount Hope, Alabama.
AL-199 | Dennis Horse Sales, Audalusia, Alabama.
AR-185 | Hilltop Acres Goat & Sheep Auction, LLC, Romance, Arkansas.
AR-186 | Johnny Smith Livestock, Plumerville, Arkansas.
GA-238 | Southern Blitz/Heart of Dixie Boer Goat Sale, Harlem, Georgia.
IN-169 | Monroe Livestock Auction, LLC, Monroe, Indiana.
MO-290 | Show Me Horse Sale, Barnett, Missouri.
MO-292 | Lord S Nemo Auction, Kirksville, Missouri.
MO-291 | Owensville Auction LLC, Owensville, Missouri.
MD-121 | Wolfe Agricultural Actions, Inc., Thurmont, Maryland.
NY-180 | Lakeview Sales Barn, Penn Yan, New York.
OH-161 | BLT Livestock, Inc., Maryville, Ohio.
OK-226 | D&D Auction Barn, LLC, Gans, Oklahoma.
TN-219 | Prestige Horse Sales, LLC, Shelbyville, Tennessee.
VA-165 | Cedar Grove Auctions, Charlotte, Virginia.

We are also notifying the public that the stockyards listed in the following table meet the P&S Act's definition of a stockyard and, therefore, we have posted these stockyards. On May 14, 2020, we published a notice in the Federal Register (85 FR 28928) proposing to post these 10 stockyards. Since we received no comments to our proposal, we assigned the stockyards a facility number and notified the owners of the stockyard facilities. Posting notices were sent to each stockyard owner to display in public areas of their stockyard. The table below reflects the date of posting for these stockyards.

Facility No. | Stockyard name and location | Date of posting
NY-178 | Davis Livestock Sales, Inc., Gouverneur, New York | 07/15/2020
NY-179 | Argyle Livestock Station, LLC, Argyle, New York | 07/15/2020
OK-266 | Geary Livestock Market, LLC, Geary, Oklahoma | 07/15/2020
OK-227 | McDaniel Livestock Exchange LLC, Valliant, Oklahoma | 07/15/2020
TX-358 | Mort Livestock Exchange, Canton, Texas | 07/16/2020
TX-359 | Amarillo West Stockyards LLC, Wildorado, Texas | 07/16/2020
PA-164 | Double E. Auction Service LLC, Quarryville, Pennsylvania | 07/16/2020
KY-190 | Triple C. Auctions, Ewing, Kentucky | 07/17/2020
FL-141 | Cattleman's Market of Okeechobee LLC, Okeechobee, Florida | 07/15/2020
ND-134 | Bismarck Livestock Auction, LLC, Bismarck, North Dakota | 07/15/2020

Authority: 7 U.S.C. 202.

Erin Morris,
Associate Administrator, Agricultural Marketing Service.

[FR Doc. 2023-25248 Filed 11-15-23; 8:45 am]

BILLING CODE 3410-02-P